Title 3—

The President

Proclamation 10432 of August 31, 2022

National Childhood Cancer Awareness Month, 2022

By the President of the United States of America

A Proclamation

During National Childhood Cancer Awareness Month, we remember the bright lives of children we have lost to this terrible disease. We recommit ourselves to finding new therapies to treat and defeat pediatric cancer. And we pledge to help children not only survive cancer but thrive.

Cancer remains the leading cause of death by disease for American children under the age of 15, and survivors often face physical, emotional, and cognitive challenges. Jill and I know from personal experience how a cancer diagnosis can be paralyzing. Worry and heartache cast a shadow on life's joys, medical bills mount, and treatment paths are often confusing and difficult to absorb.

My Administration is committed to ending cancer as we know it. The First Lady and I reignited the 2016 Cancer Moonshot Initiative, and we have set a goal of cutting the cancer death rate by at least half over the next 25 years. I formed a new Cancer Cabinet to ensure that Federal agencies are coordinating cancer care programs, research, and development. And this year, my Administration created the first Advanced Research Projects Agency for Health (ARPA-H) with the single purpose of expediting breakthroughs in the prevention, detection, and treatment of deadly diseases. This is one of the pillars of the Unity Agenda I announced in my State of the Union Address.

Although significant progress has been made, many parents still have to advocate for their children's basic care when insurance companies refuse to pay. My Administration is committed to strengthening the Affordable Care Act and Medicaid to help ensure access to preventive care screenings and life-saving treatments. Thanks to the American Rescue Plan's provisions that build upon the Affordable Care Act and other actions my Administration has taken, 1 million children have gained health care coverage since I became President, helping to reverse the coverage losses during the previous Administration. And, as part of the Inflation Reduction Act, 13 million Americans will continue to save $800 per year on health insurance premiums—making lifesaving care affordable for millions of American families. My Administration is also committed to helping families navigate the flood of information that comes with a cancer diagnosis. For anyone experiencing uncertainty around risk factors, treatment options, or other opportunities for support, you can connect with a trained specialist at 1-800-4-CANCER or visit cancer.gov.

During this National Childhood Cancer Awareness Month, we recognize the health care professionals, researchers, private philanthropies, social support organizations, and patient advocacy groups who work tirelessly to protect our children's well-being. We honor the courage of our children fighting pediatric cancers and the strength of their families and caregivers who never stop loving, supporting, and advocating for them. We rededicate ourselves to ensuring that every child can enjoy a long, healthy, and fulfilling life.

NOW, THEREFORE, I, JOSEPH R. BIDEN JR., President of the United States of America, by virtue of the authority vested in me by the Constitution and the laws of the United States, do hereby proclaim September 2022 as National Childhood Cancer Awareness Month. I encourage citizens, government agencies, private businesses, nonprofit organizations, the media, and other interested groups to increase awareness of what Americans can do to support the fight against childhood cancer.

IN WITNESS WHEREOF, I have hereunto set my hand this thirty-first day of August, in the year of our Lord two thousand twenty-two, and of the Independence of the United States of America the two hundred and forty-seventh.

[FR Doc. 2022-19275

Filed 9-2-22; 8:45 am]

Billing code 3395-F2-P